DEPARTMENT OF COMMERCE

National Oceanic and Atmospheric Administration

Final Management Plan for the Rookery Bay National Estuarine Research Reserve

AGENCY: Office for Coastal Management, National Ocean Service, National Oceanic and Atmospheric Administration (NOAA), Department of Commerce.

ACTION: Notice of approval of the revised management plan Rookery Bay National Estuarine Research Reserve.

SUMMARY: Notice is hereby given that the Office for Coastal Management, National Ocean Service, National Oceanic and Atmospheric Administration, U.S. Department of Commerce approves the revised management plan for the Rookery Bay National Estuarine Research Reserve in Florida. In accordance with applicable Federal regulations, the Florida Department of Environmental Protection revised the Rookery Bay Reserve's management plan, which replaces the plan previously approved in 2012.

ADDRESSES: The approved Rookery Bay Reserve management plan can be downloaded or viewed at http://publicfiles.dep.state.fl.us/DSL/OES/Management_Plans/October_2022_MPlans/RookeryBayNERR_Draft_MP.pdf. These documents are also available by sending a written request to Matt Chasse of NOAA's Office for Coastal Management, by email at matt.chasse@noaa.gov.

FOR FURTHER INFORMATION CONTACT: Matt Chasse of NOAA's Office for Coastal Management, by email at matt.chasse@noaa.gov, phone at 240-628-5417.

SUPPLEMENTARY INFORMATION: Pursuant to 15 CFR 921.33(c), a State must revise the management plan for a research reserve at least every five years. Changes to a reserve's management plan may be made only after receiving written approval from NOAA. NOAA approves changes to management plans via notice in the Federal Register. On March 14, 2022, NOAA issued a notice in the Federal Register announcing a thirty-day public comment period for the proposed revision of the management plan for the Rookery Bay National Estuarine Research Reserve (87 FR 14254). Responses to written and oral comments received, and an explanation of how comments were incorporated into the final versions of the revised management plans, are available in appendix C of the final plan.

The revised management plan outlines the reserve's strategic goals and objectives; administrative structure; programs for conducting research and monitoring, education, and training; resource protection, restoration, volunteer, and communications plans; prescribed fire and invasive species plans; consideration for future land acquisition; and facility development to support reserve operations.

The Rookery Bay revised management plan focuses on building upon past successes and accomplishments. Research and monitoring will focus on habitat mapping, wildlife communities, resource management and restoration, coastal change and resilience, and ecosystem services. Reserve education programming will focus on informed community and individual action as related to ecosystems, human connections, resilience, and outreach. The reserve is also planning on enhancing the use of technology in education programming and on building a robust interpretation program with volunteer staff. Coastal training will continue offering programs to professional audiences and conduct an updated needs assessment. The plan also includes the reserve monitoring the health of fish and bird communities, invasive species control efforts, and the use of prescribed fire as a management tool. In addition, the reserve is expecting to expand its strategic partnership with Florida International University.

Furthermore, no reserve boundary or acreage changes are incorporated into the revised management plan.

NOAA reviewed the environmental impacts of the Rookery Bay revised management plans and determined that these actions are categorically-excluded from further analysis under the National Environmental Policy Act, consistent with NOAA Administrative Order 216-6.

Authority: 16 U.S.C. 1451 et seq.; 15 CFR 921.33.

Keelin S. Kuipers,
Deputy Director, Office for Coastal Management, National Ocean Service, National Oceanic and Atmospheric Administration.

[FR Doc. 2022-19255 Filed 9-6-22; 8:45 am]

BILLING CODE 3510-NK-P